Proclamation 9323 of September 16, 2015

Constitution Day and Citizenship Day, Constitution Week, 2015

By the President of the United States of America

A Proclamation

At the culmination of months of deliberation, debate, and compromise, on September 17, 1787, the Constitution of the United States of America was signed. Colonists came together in bold pursuit of a roadmap for citizenship and a framework for our democracy—exemplifying the statesmanship and character that would forever set our Nation apart. Yielding to the power of shared ideals over stubborn opinion, our forefathers upheld a belief that remains at the heart of America today: that men and women of free will have the capacity to shape their own destinies.

These early patriots understood what it meant to be American. They succeeded in crafting a document that enshrines our enduring faith in the notion that being a citizen is about more than circumstances of birth—we are bound together by our beliefs, our unalienable rights, and the idea that we must accept certain obligations to one another and to future generations. In what has become the supreme law of our land, and in the ensuing amendments to it, we see a reflection of our Founding Fathers' insistence that the task of perfecting our Union is never finished—we must constantly take up the critical work of bettering ourselves and our society. These ideals have driven America forward from her nascence on the cobblestone streets of Philadelphia through today, and we continue to shine as a beacon of hope and freedom to the rest of the world.

Each year on Citizenship Day, we welcome our country's newest citizens and reaffirm our proud legacy as a Nation of immigrants. In wave after wave through the centuries, people from every corner of the globe have come to our shores in pursuit of happiness and a better life for themselves and their families. In their home countries, our Constitution has stood out as an emblem of equality and representation for all. Those of us who have been Americans our entire lives have an obligation to remember that we were strangers once, too, and together we must work to extend the promise that citizenship provides to all who seek liberty's light. Since last year, we have redoubled these efforts by creating the White House Task Force on New Americans—a Government-wide effort tasked with better integrating immigrants and refugees into American communities. The Task Force released its strategic plan in April, which includes efforts to raise awareness about the rights, responsibilities, and importance of United States citizenship. It is essential that we encourage individuals who are eligible to take an important step in their American journey and commit to becoming a citizen.

On this day and throughout this week, let us honor the values for which the Framers stood by rededicating ourselves to carrying forward the spirit first embodied in their achievements—that what makes our country great is not that we are perfect, but that we can face our imperfections and decide that it is in our power to remake our Nation to more closely align with our highest ideals. With time, courage, and the participation of our citizenry, we can pay tribute to those who shaped the land we love today while working to secure everlasting peace, prosperity, and opportunity for all who call America home.

In remembrance of the signing of the Constitution and in recognition of the Americans who strive to uphold the duties and responsibilities of citizenship, the Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, BARACK OBAMA, President of the United States of America, do hereby proclaim September 17, 2015, as Constitution Day and Citizenship Day, and September 17 through September 23, 2015, as Constitution Week. I encourage Federal, State, and local officials, as well as leaders of civic, social, and educational organizations, to conduct ceremonies and programs that bring together community members to reflect on the importance of active citizenship, recognize the enduring strength of our Constitution, and reaffirm our commitment to the rights and obligations of citizenship in this great Nation.

IN WITNESS WHEREOF, I have hereunto set my hand this sixteenth day of September, in the year of our Lord two thousand fifteen, and of the Independence of the United States of America the two hundred and fortieth.

[FR Doc. 2015-24111

Filed 9-18-15; 11:15 am]

Billing code 3295-F5-P